DEPARTMENT OF TRANSPORTATION

Federal Motor Carrier Safety Administration

[Docket No. FMCSA-2015-0050]

Qualification of Drivers; Exemption Applications; Vision

AGENCY: Federal Motor Carrier Safety Administration (FMCSA), DOT.

ACTION: Notice of denials.

SUMMARY: FMCSA announces its denial of 115 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 115 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 25 applicants had no experience operating a CMV:

John O. Adams

Chamekia Allison

William S. Bennett

Alex J. Cordova

Lee J. Gaffney

Joseph P. Gatzek

Victor Gulian

James L. Howes

Jose R. Izaguirre

Robert C. Jeffries

Douglas R. Johnston

Joshua L. Johnson

Charles D. Jones

Darrell T. Leonard

Steven L. Loper

Jared J. Martin

Peni M. Matanimeke

Thomas I. Poindexter

Joaquin Rivera

Michael D. Roe

Allen Rowbotham

Zachary M. Sawyer

Marcus W. Scott

John J. Tilton

Joshua Yeick

The following 24 applicants did not have three years of experience driving a CMV on public highways with their vision deficiencies:

Raed A. Abdelrahim

Jaloliddin S. Abduvakhabov

Elbert A. Akers

Esmic Arras-Saenz

Howard D. Barton

Alan F. Brown

Jerry Carter

Donald E. Cessna, Sr.

Douglas G. Gentry

Jerry G. Henry III

Delbert R. Hummel

Timothy L. Kennie

Ricky A. Mobley

Gabriel Navarro

Ronald D. Otworth

Frederick E. Place

Joshua S. Reiling

Timothy A. Robbins

Anthony A. Salesi

Rodney M. Spigner

Charles Till

Benny P. Whitehead

Charles R. Williams

Wilson B. Willie

The following seven applicants did not have three years of recent experience driving a CMV with the vision deficiency:

Jeffrey S. Branch

Richard Jarrell

Duane A. McCord

Todd O. Moodispaugh

Reynerio G. Paz

Lynn C. Radney, Sr.

Rick L. Richardson

The following three applicants did not have sufficient driving experience during the past three years under normal highway operating conditions:

Harold L. Cobb

Allen Hewitt

Clarence H. Lee

The following applicant, James Lyman, was charged with a moving violation(s) in conjunction with a commercial motor vehicle accident(s).

The following applicant, Kevin E. Putney, had his CDL suspended in relation to a moving violation during the three-year period. Applicants do not qualify for an exemption with a suspension during the three-year period.

The following three applicants were unable to obtain a statement from an optometrist or ophthalmologist stating that he was able to operate a commercial vehicle from a vision standpoint:

Roger F. Berneking

Kip M. Le Fever

David N. Skillings

The following applicant, Michael A. Stiles, was denied for miscellaneous/multiple reasons.

The following two applicants did not have stable vision for the entire three-year period:

Wesley A. Boyd

Thomas E. Lippincott

The following applicant, Myrick J. Jackson, never submitted the documents required for a vision exemption.

The following applicant, Aaron Wiebe, lives in Canada.

The following two applicants did not meet the vision standard in their better eye:

Thomas E. Allen

Michael J. Pullman

The following 13 applicants met the current federal vision standards. Exemptions are not required for applicants who meet the current regulations for vision:

Elazar Ambriz

Steven P. Cohen

Aubrey B. Cook

John D. Hamm

Randal E. Heibult

Thomas M. King

Donald R. Knobloch

Rodney E. Parks

Rene J. Patenaude

Theodore T. Phillips

David Searcy

Guy Waltz

Lloyd F. Wood

The following 26 applicants were denied because they will not be driving interstate, interstate commerce, or are not required to carry a DOT medical card:

Melvin C. Bennett

James E. Campbell

Jeremy L. Elliott

Edward T. Errrichetto

Stefano U. Fabbri

Sebastian Fernandez

Phillp M. Green

Antone J. Heideman, Jr.

Eric J. Hidden

Jared B. Holt

Paul E. Irish, Jr.

Justin M. Jackson

Elias Lemus, Jr.

Thomas J. Manning

David B. McConnell

Timothy J. Miller

George Moore, Jr.

Elpidio Munoz, Jr.

Nicholas M. O'Rourke

William F. Potts

Michael L. Rouse

George E. Shores

Claude G. Stolp

James R. Taylor

Joseph M. Taylor

Joseph H. Varel

Finally, the following five applicants perform transportation for the federal government, state, or any political sub-division of the state.

Bryan A. Jenkins

Anton M. Maloblocki

Stuart P. Nichols

Lawrence K.W. Smith

James A. White, Jr.

Issued on: June 22, 2015.
Larry W. Minor,
Associate Administrator for Policy.

[FR Doc. 2015-15862 Filed 6-26-15; 8:45 am]

BILLING CODE 4910-EX-P